DEPARTMENT OF HEALTH AND HUMAN SERVICES

National Institutes of Health

Center for Scientific Review; Amended Notice of Meeting

Notice is hereby given of a change in the meeting of the Center for Scientific Review Special Emphasis Panel, October 8, 2013, 7:00 a.m. to October 8, 2013, 8:00 p.m., National Institutes of Health, 6701 Rockledge Drive, Bethesda, MD 20892 which was published in the Federal Register on September 10, 2013, 78 FR 175 pgs. 55268-55270.

The meeting will start on November 21, 2013 at 7:00 a.m. and end on November 22, 2013 at 8:00 p.m. The location remains the same. The meeting is closed to the public.

Dated: October 24, 2013.
Carolyn A. Baum,
Program Analyst, Office of Federal Advisory Committee Policy.

[FR Doc. 2013-25651 Filed 10-29-13; 8:45 am]

BILLING CODE 4140-01-P